DEPARTMENT OF DEFENSE

Office of the Secretary

[Docket ID: DoD-2021-OS-0051]

Submission for OMB Review; Comment Request

AGENCY: Office of the Under Secretary of Defense for Personnel and Readiness, Department of Defense (DoD).

ACTION: 30-Day information collection notice.

SUMMARY: The Department of Defense has submitted to OMB for clearance the following proposal for collection of information under the provisions of the Paperwork Reduction Act.

DATES: Consideration will be given to all comments received by October 18, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: Involuntary Allotment Application; DD Form 2653; OMB Control Number 0704-0367.

Type of Request: Regular.

Number of Respondents: 2,783.

Responses per Respondent: 1.

Annual Responses: 2,783.

Average Burden per Response: 30 minutes.

Annual Burden Hours: 1,392 hours.

Needs and Uses: This collection of information is in response to requests for involuntary allotments. Before responding to a request, the responsible government official must have information that identifies both the applicant and the member against whom the involuntary allotment is sought; proves that the request is based on a valid court judgment; shows that the judgment comports with the provision of the Soldiers' and Sailors' Civil Relief Act (SCRA); and enables consideration for whether exigencies of military duty caused the absence of the member from a judicial proceeding upon which the judgment is based. With the exception of information concerning exigencies of military duty, an applicant for an involuntary allotment must provide required information before a government official can act on the applicant's request. The information from the DD Form 2653 is used by DFAS officials to determine whether an involuntary allotment should be established against the pay of a member of the Armed Forces. The information is used to provide government reviewing officials with necessary information to ensure that both the law and due process considerations are accounted for, including information sufficient for a decision maker to determine that the request is based on a valid judgment and that the SCRA has been complied with.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 10, 2021.
Kayyonne T. Marston,
Alternate OSD Federal Register Liaison Officer, Department of Defense.

[FR Doc. 2021-19956 Filed 9-15-21; 8:45 am]

BILLING CODE 5001-06-P